DEPARTMENT OF HEALTH AND HUMAN SERVICES

National Institutes of Health

Center for Scientific Review; Amended Notice of Meeting

Notice is hereby given of a change in the meeting of the Neurobiology of Motivated Behavior Study Section, October 14, 2013, 08:00 a.m. to October 15, 2013, 01:00 p.m., Pier 5 Hotel, 711 Eastern Avenue, Baltimore, MD 21202 which was published in the Federal Register on September 16, 2013, 78 FR 179 Pgs. 56904-56905.

The meeting will start on December 2, 2013 at 8:00 a.m. and end on December 3, 2013 at 1:00 p.m. The meeting location remains the same. The meeting is closed to the public.

Dated: October 25, 2013.
Anna Snouffer,
Deputy Director, Office of Federal Advisory Committee Policy.

[FR Doc. 2013-25768 Filed 10-29-13; 8:45 am]

BILLING CODE 4140-01-P